ENVIRONMENTAL PROTECTION AGENCY

40 CFR Part 1090

Regulation of Fuels, Fuel Additives, and Regulated Blendstocks

CFR Correction

This rule is being published by the Office of the Federal Register to correct an editorial or technical error that appeared in the most recent annual revision of the Code of Federal Regulations.

In Title 40 of the Code of Federal Regulations, Parts 1060 to End, revised as of July 1, 2025, in section 1090.95, remove the second instances of paragraphs (c)(10) and (c)(20).

[FR Doc. 2025-24084 Filed 12-30-25; 8:45 am]

BILLING CODE 0099-10-P